DEPARTMENT OF THE INTERIOR

National Park Service

[NPS-WASO-NAGPRA-15869; PPWOCRADN0-PCU00RP14.R50000]

Notice of Intent To Repatriate Cultural Items: Anthropological Studies Center, Sonoma State University, Rohnert Park, CA

AGENCY: National Park Service, Interior.

ACTION: Notice.

SUMMARY: The Anthropological Studies Center, Sonoma State University, in consultation with the appropriate Indian tribes or Native Hawaiian organizations, has determined that the cultural items listed in this notice meet the definition of sacred objects and objects of cultural patrimony. Lineal descendants or representatives of any Indian tribe or Native Hawaiian organization not identified in this notice that wish to claim these cultural items should submit a written request to the Anthropological Studies Center, Sonoma State University. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Anthropological Studies Center, Sonoma State University at the address in this notice by July 24, 2014.

ADDRESSES: Sandra Massey, NAGPRA Coordinator, Anthropological Studies Center, Archaeological Collections Facility, Sonoma State University, 1801 East Cotati Ave., Building 29, Rohnert Park, CA 94928, telephone (707) 664-2381, email massey@sonoma.edu.

SUPPLEMENTARY INFORMATION: Notice is here given in accordance with the Native American Graves Protection and Repatriation Act (NAGPRA), 25 U.S.C. 3005, of the intent to repatriate cultural items under the control of the Anthropological Studies Center, Sonoma State University that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1967, 293 cultural items were removed from the Reedlands Woods site (CA-MRN-27) in Tiburon, Marin County, CA, during an excavation under the direction of Dr. Frederickson (accession number 67-01). A number of the sacred objects and objects of cultural patrimony from this site were previously on loan to San Francisco State University and Novato Museum of Prehistory. In 1975, the cultural items from the Novato Museum of Prehistory were transferred to Tiberon Landmark Society, and in 1997, the items were returned to the Archaeological Collections Facility, Sonoma State University. The cultural items on loan to San Francisco State University were returned to the Archaeological Collections Facility, Sonoma State University in 2006.

The 125 sacred objects are 1 bone bead, 1 elk bone whistle, 1 bear tooth with asphaltum, 45 Olivella shell beads, 41 Haliotis shell beads, 1 Macoma shell bead, 17 miscellaneous shell beads, 2 quartz or calcite crystals, 9 charmstones, and 7 pieces micaceous schist. The 168 objects of cultural patrimony are 4 antler tools, 1 Haliotis shell pendant, 1 shell bead blank, 14 bone tools, 1 bone pendant/spatula, 4 bone tubes, 25 pieces modified bone, 40 obsidian tools, 22 worked/utilized obsidian flakes, 9 chert tools, 1 piece worked chert, and 46 pieces groundstone.

Radiocarbon tests from the Reedland Woods site yielded dates between 370 to 190 B.C. and 30 to 95 B.C. Analysis of the artifacts found at the site date the burials to the Upper Archaic period (1500 B.C.-500 B.C.). The Reedland Woods site is located within the historically documented territory of the Federated Indians of Graton Rancheria, California.

Determinations Made By the Anthropological Studies Center, Sonoma State University

Officials of the Anthropological Studies Center, Sonoma State University have determined that:

• Pursuant to 25 U.S.C. 3001(3)(C), the 125 sacred objects described above are specific ceremonial objects needed by traditional Native American religious leaders for the practice of traditional Native American religions by their present-day adherents.

• Pursuant to 25 U.S.C. 3001(3)(D), the 168 objects of cultural patrimony described above have ongoing historical, traditional, or cultural importance central to the Native American group or culture itself, rather than property owned by an individual.

• Pursuant to 25 U.S.C. 3001(2), there is a relationship of shared group identity that can be reasonably traced between the sacred objects and the objects of cultural patrimony, and the Federated Indians of Graton Rancheria, California.

Additional Requestors and Disposition

Lineal descendants or representatives of any Indian tribe or Native Hawaiian organization not identified in this notice that wish to claim these cultural items should submit a written request with information in support of the claim to Sandra Massey, NAGPRA Coordinator, Anthropological Studies Center, Archaeological Collections Facility, Sonoma State University, 1801 East Cotati Ave., Building 29, Rohnert Park, CA 94928, telephone (707) 664-2381, email massey@sonoma.edu by July 24, 2014. After that date, if no additional claimants have come forward, transfer of control of the sacred objects and objects of cultural patrimony to the Federated Indians of Graton Rancheria, California, may proceed.

The Anthropological Studies Center, Sonoma State University is responsible for notifying the Federated Indians of Graton Rancheria, California, that this notice has been published.

Dated: May 22, 2014.
David Tarler,
Acting Manager, National NAGPRA Program.

[FR Doc. 2014-14750 Filed 6-23-14; 8:45 am]

BILLING CODE 4312-50-P